DEPARTMENT OF ENERGY

Federal Energy Regulatory Commission

[Docket No. AD23-5-000]

Roundtable on Environmental Justice and Equity in Infrastructure Permitting; Notice of Roundtable and Request for Panelists

Take notice that the Federal Energy Regulatory Commission (Commission) will convene in the above-referenced proceeding, a Commissioner-led roundtable to discuss environmental justice and equity in its jurisdictional infrastructure permitting processes. The roundtable will be held on Wednesday, March 29, 2023 and will be held in-person with hybrid capabilities.

The Commission is convening this roundtable to strengthen our efforts to identify, address, and avoid adverse impacts to environmental justice communities associated with permitting applications for hydroelectric, natural gas pipeline, liquified natural gas, and transmission infrastructure subject to our jurisdiction. The roundtable will provide an opportunity for the Commissioners and staff to hear from environmental justice community members, including those impacted by the infrastructure we regulate, as well as advocates, researchers, industry representatives and government leaders on steps the Commission can take to better incorporate environmental justice and equity considerations into our decisions and processes.

The roundtable will be open for the public to attend in-person and virtually, and there is no fee for attendance. The Commission seeks nominations of panelists to participate in the roundtable by February 17, 2023. Each nomination should indicate name, contact information, organizational affiliation, and what issues the proposed panelist would speak on to EnvironmentalJusticeRoundtable@ferc.gov. Supplemental notices will be issued prior to the roundtable with further details regarding the agenda.

Information on this roundtable will also be posted on the Calendar of Events on the Commission's website, www.ferc.gov, prior to the event. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this roundtable, please contact EnvironmentalJusticeRoundtable@ferc.gov. For information related to logistics, please contact Sarah McKinley at sarah.mckinley@ferc.gov or (202) 502-8368.

Dated: January 27, 2023.
Kimberly D. Bose,
Secretary.

[FR Doc. 2023-02259 Filed 2-2-23; 8:45 am]

BILLING CODE 6717-01-P